DEPARTMENT OF THE INTERIOR

Bureau of Land Management

[LLCAD06000, L16100000.DP0000]

Notice of Availability of South Coast Draft Resource Management Plan Revision and Draft Environmental Impact Statement

AGENCY: Bureau of Land Management, Interior.

ACTION: Notice of Availability.

SUMMARY: In accordance with the National Environmental Policy Act of 1969, as amended, and the Federal Land Policy and Management Act of 1976, as amended, the Bureau of Land Management (BLM) has prepared a Draft Resource Management Plan (RMP) and Draft Environmental Impact Statement (EIS) for the South Coast Planning Area (California), and by this notice is announcing the opening of the comment period.

DATES: To ensure comments will be considered, the BLM must receive written comments on the Draft RMP/EIS within 90 days following the date the Environmental Protection Agency publishes its Notice of Availability of the Draft RMP/EIS in the Federal Register. The BLM will announce future meetings or hearings and any other public involvement activities at least 15 days in advance through public notices, media news releases, and/or mailings.

ADDRESSES: You may submit written comments related to the South Coast Draft RMP/EIS by any of the following methods:

• Web site: http://www.blm.gov/ca/palmsprings.

• E-mail: Greg_Hill@blm.gov.

• Fax: (760) 833-7199.

• Mail: Bureau of Land Management, Palm Springs-South Coast Field Office, 1201 Bird Center Drive, Palm Springs, California 92262.

Copies of the South Coast Draft RMP/EIS are available for review at the Palm Springs-South Coast Field Office and via the Internet at: http://www.blm.gov/ca/palmsprings. Electronic (on CD-ROM) or paper copies may also be obtained by contacting Greg Hill at the address and phone number below.

FOR FURTHER INFORMATION CONTACT: Greg Hill; Bureau of Land Management, Palm Springs-South Coast Field Office, 1201 Bird Center Drive, Palm Springs, California 92262; (760) 833-7140; Greg_Hill@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The South Coast Draft RMP provides guidance for the management of approximately 300,000 acres of BLM-administered public lands in portions of five highly urbanized southern California counties: San Diego, Riverside, San Bernardino, Orange, and Los Angeles. These public lands include over 130,000 acres of BLM-administered surface lands and 167,000 acres of Federal mineral ownership where the surface is privately owned. The Draft RMP/EIS is a revision to the existing South Coast RMP (1994). Since 1994, there have been significant changes in the patterns of urban growth; increased demands on the resources of the public lands; changing policies and emphasis on the management of public lands and local land use planning; and new data that have led to the listing of additional threatened or endangered species. The Notice of Intent to prepare a land use plan revision and associated EIS was published in the Federal Register on August 7, 2007 (72 FR 44173). The BLM held public workshops and scoping meetings in Campo, San Diego, Temecula, and Santa Clarita in December 2007, and invited agencies to participate as cooperating agencies in the planning effort. The Draft RMP/EIS analyzes four alternatives, including a No Action alternative, Alternative A, and an agency Preferred Alternative, Alternative D, designed to address management challenges and issues raised during scoping, including, but not limited to Areas of Critical Environmental Concern (ACEC), sensitive species and other wildlife habitat, lands with wilderness characteristics, livestock grazing, recreation, off highway vehicle use, minerals management, and land use authorizations.

Pursuant to 43 CFR 1610.7-2(b), this notice announces a concurrent public comment period on proposed ACECs. The Draft RMP/Draft EIS proposes changes to ACEC designations and elimination of ACECs within wilderness. The Preferred Alternative, Alternative D, includes 9 ACECs comprising of a total of 26,627 acres, or 20 percent of the planning area's surface acres. This is in contrast with Alternative A, the No Action Alternative of 7 ACECs with 14,539 acres, or 11 percent of surface acres. The proposed ACECs and resource use limitations which would occur if formally designated are listed below:

Proposed ACEC | Alternatives and Acres: A | Alternatives and Acres: B | Alternatives and Acres: C | Alternatives and Acres: D | Limitations
Cedar Canyon | 708 | 0 | 708 | 0 | ACECs are:
Johnson Canyon | 1,800 | 0 | 1,800 | 1,800 | Closed to OHV use or limited to designated roads and trails under all alternatives.
Kuchamaa | 803 | 0 | 803 | 0
Million Dollar Spring | 6,265 | 0 | 6,265 | 0
Potrero | 2,966 | 0 | 0 | 0 | Avoidance areas for land use authorizations under Alternatives A, C, and D. ACECs are exclusion areas under Alternative B.
Santa Ana River Wash | 750 | 750 | 750 | 750
Santa Margarita River | 1,247 | 4,474 | 1,247 | 4,474
Upper Santa Clara River | 0 | 1,620 | 0 | 1,620 | Closed to fluid mineral and geothermal leasing and sale of mineral materials under Alternatives A, C, and D. The Western Riverside County ACEC would be considered for sale of mineral materials on a case-by-case basis with site specific analysis required to protect ACEC values of relevance and importance.
Western Riverside County | 0 | 24,995 | 0 | 0
Oak Mountain | 0 | 0 | 0 | 894
Gavilan | 0 | 0 | 0 | 3,822
Badlands | 0 | 0 | 0 | 1,051
Beauty Mountain | 0 | 27,376 | 0 | 3,925
Otay/Kuchamaa | 0 | 8,291 | 0 | 8,291
Total acres | 14,539 | 67,506 | 11,573 | 26,627

A Record of Decision for the proposed RMP will be prepared following publication of the Proposed RMP/Final EIS in accordance with the planning regulations at 43 CFR 1610.5-1 and the NEPA, 40 CFR 1505.2.

Please note that public comments and information submitted including names, street addresses, and e-mail addresses of respondents will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

John R. Kalish,
Manager, Palm Springs-South Coast Field Office.

Authority: 40 CFR 1506.6 and 1506.10; 43 CFR 1610.2.

[FR Doc. 2011-24493 Filed 9-22-11; 8:45 am]

BILLING CODE 4310-40-P